Title 3—

The President

Executive Order 14096 of April 21, 2023

Revitalizing Our Nation's Commitment to Environmental Justice for All

By the authority vested in me as President by the Constitution and the laws of the United States of America, and in order to advance environmental justice, it is hereby ordered as follows:

Section 1. Policy. To fulfill our Nation's promises of justice, liberty, and equality, every person must have clean air to breathe; clean water to drink; safe and healthy foods to eat; and an environment that is healthy, sustainable, climate-resilient, and free from harmful pollution and chemical exposure. Restoring and protecting a healthy environment—wherever people live, play, work, learn, grow, and worship—is a matter of justice and a fundamental duty that the Federal Government must uphold on behalf of all people.

We must advance environmental justice for all by implementing and enforcing the Nation's environmental and civil rights laws, preventing pollution, addressing climate change and its effects, and working to clean up legacy pollution that is harming human health and the environment. Advancing environmental justice will require investing in and supporting culturally vibrant, sustainable, and resilient communities in which every person has safe, clean, and affordable options for housing, energy, and transportation. It is also necessary to prioritize building an equitable, inclusive, and sustainable economy that offers economic opportunities, workforce training, and high-quality and well-paying jobs, including union jobs, and facilitating an equitable transition of the workforce as part of a clean energy future. Achieving this vision will also require improving equitable access to parks, tree cover, playgrounds, sports fields, rivers, ponds, beaches, lakes, and all of the benefits provided by nature, including America's public lands and waters. Pursuing these and other objectives integral to advancing environmental justice can successfully occur only through meaningful engagement and collaboration with underserved and overburdened communities to address the adverse conditions they experience and ensure they do not face additional disproportionate burdens or underinvestment.

We have more work to do to make environmental justice a reality for our Nation, both for today and for the generations that will follow us. Even as many communities in the United States have prospered and thrived in recent decades, many other communities have been left behind. Communities with environmental justice concerns face entrenched disparities that are often the legacy of racial discrimination and segregation, redlining, exclusionary zoning, and other discriminatory land use decisions or patterns. These decisions and patterns may include the placement of polluting industries, hazardous waste sites, and landfills in locations that cause cumulative impacts to the public health of communities and the routing of highways and other transportation corridors in ways that divide neighborhoods. These remnants of discrimination persist today.Communities with environmental justice concerns exist in all areas of the country, including urban and rural areas and areas within the boundaries of Tribal Nations and United States Territories. Such communities are found in geographic locations that have a significant proportion of people who have low incomes or are otherwise adversely affected by persistent poverty or inequality. Such communities are also found in places with a significant proportion of people of color, including individuals who are Black, Latino, Indigenous and Native American, Asian American, Native Hawaiian, and Pacific Islander. Communities with environmental justice concerns also include geographically dispersed and mobile populations, such as migrant farmworkers.

Communities with environmental justice concerns experience disproportionate and adverse human health or environmental burdens. These burdens arise from a number of causes, including inequitable access to clean water, clean air, natural places, and resources for other basic human health and environmental needs; the concentration of pollution, hazardous waste, and toxic exposures; and underinvestment in affordable housing that is safe and healthy and in basic infrastructure and services to support such housing, including safe drinking water and effective sewage management. The cumulative impacts of exposure to those types of burdens and other stressors, including those related to climate change and the environment, further disadvantage communities with environmental justice concerns. People in these communities suffer from poorer health outcomes and have lower life expectancies than those in other communities in our Nation. Moreover, gaps in environmental and human health data can conceal these harms from public view, and, in doing so, are themselves a persistent and pernicious driver of environmental injustice.

Nearly three decades after the issuance of Executive Order 12898 of February 11, 1994 (Federal Actions To Address Environmental Justice in Minority Populations and Low-Income Populations), the Federal Government must build upon and strengthen its commitment to deliver environmental justice to all communities across America. Our Nation needs an ambitious approach to environmental justice that is informed by scientific research, high-quality data, and meaningful Federal engagement with communities with environmental justice concerns and that uses the tools available to the Federal Government, including enforcement of civil rights and environmental laws. Our Nation must also take further steps to dismantle racial discrimination and institutional bias that disproportionately affect the health, environment, safety, and resiliency of communities with environmental justice concerns.

To ensure that the Nation's policies and investments respond to the needs of every community, all people should be afforded the opportunity to meaningfully participate in agency decision-making processes that may affect the health of their community or environment. The Federal Government must continue to remove barriers to the meaningful involvement of the public in such decision-making, particularly those barriers that affect members of communities with environmental justice concerns, including those related to disability, language access, and lack of resources. The Federal Government must also continue to respect Tribal sovereignty and support self-governance by ensuring that Tribal Nations are consulted on Federal policies that have Tribal implications. In doing so, we must recognize, honor, and respect the different cultural practices—including subsistence practices, ways of living, Indigenous Knowledge, and traditions—in communities across America. As our Nation reaffirms our commitment to environmental justice, the Federal Government must continue to be transparent about, and accountable for, its actions.

It is the policy of my Administration to pursue a whole-of-government approach to environmental justice. This order builds upon my Administration's ongoing efforts to advance environmental justice and equity consistent with Executive Order 13985 of January 20, 2021 (Advancing Racial Equity and Support for Underserved Communities Through the Federal Government), Executive Order 13990 of January 20, 2021 (Protecting Public Health and the Environment and Restoring Science To Tackle the Climate Crisis), Executive Order 14008 of January 27, 2021 (Tackling the Climate Crisis at Home and Abroad), Executive Order 14052 of November 15, 2021 (Implementation of the Infrastructure Investment and Jobs Act), Executive Order 14057 of December 8, 2021 (Catalyzing Clean Energy Industries and Jobs Through Federal Sustainability), Executive Order 14082 of September 12, 2022 (Implementation of the Energy and Infrastructure Provisions of the Inflation Reduction Act of 2022), and Executive Order 14091 of February 16, 2023 (Further Advancing Racial Equity and Support for Underserved Communities Through the Federal Government). This order also supplements the foundational efforts of Executive Order 12898 to address environmental justice. In partnership with State, Tribal, territorial, and local governments, as well as community organizations, businesses, and members of the public, the Federal Government will advance environmental justice and help create a more just and sustainable future for all.

Sec. 2. Definitions. As used in this order:

(a) “Agency” means an executive agency as defined by 5 U.S.C. 105, excluding the Government Accountability Office and independent regulatory agencies, as defined in 44 U.S.C. 3502(5).

(b) “Environmental justice” means the just treatment and meaningful involvement of all people, regardless of income, race, color, national origin, Tribal affiliation, or disability, in agency decision-making and other Federal activities that affect human health and the environment so that people:

(i) are fully protected from disproportionate and adverse human health and environmental effects (including risks) and hazards, including those related to climate change, the cumulative impacts of environmental and other burdens, and the legacy of racism or other structural or systemic barriers; and

(ii) have equitable access to a healthy, sustainable, and resilient environment in which to live, play, work, learn, grow, worship, and engage in cultural and subsistence practices.

(c) “Federal activity” means any agency rulemaking, guidance, policy, program, practice, or action that affects or has the potential to affect human health and the environment, including an agency action related to climate change. Federal activities may include agency actions related to: assuring compliance with applicable laws; licensing, permitting, and the reissuance of licenses and permits; awarding, conditioning, or oversight of Federal funds; and managing Federal resources and facilities. This may also include such activities in the District of Columbia and the Commonwealth of Puerto Rico, the Commonwealth of the Northern Mariana Islands, American Samoa, Guam, the U.S. Virgin Islands, and other Territories and possessions of the United States.

(d) “Tribal Nation” means an American Indian or Alaska Native tribe, band, nation, pueblo, village, or community that the Secretary of the Interior acknowledges as a federally recognized Tribe pursuant to the Federally Recognized Indian Tribe List Act of 1994, 25 U.S.C. 5130, 5131.

Sec. 3. Government-Wide Approach to Environmental Justice. (a) Consistent with section 1-101 of Executive Order 12898 and each agency's statutory authority, each agency should make achieving environmental justice part of its mission. Each agency shall, as appropriate and consistent with applicable law:

(i) identify, analyze, and address disproportionate and adverse human health and environmental effects (including risks) and hazards of Federal activities, including those related to climate change and cumulative impacts of environmental and other burdens on communities with environmental justice concerns;

(ii) evaluate relevant legal authorities and, as available and appropriate, take steps to address disproportionate and adverse human health and environmental effects (including risks) and hazards unrelated to Federal activities, including those related to climate change and cumulative impacts of environmental and other burdens on communities with environmental justice concerns;

(iii) identify, analyze, and address historical inequities, systemic barriers, or actions related to any Federal regulation, policy, or practice that impair the ability of communities with environmental justice concerns to achieve or maintain a healthy and sustainable environment;

(iv) identify, analyze, and address barriers related to Federal activities that impair the ability of communities with environmental justice concerns to receive equitable access to human health or environmental benefits, including benefits related to natural disaster recovery and climate mitigation, adaptation, and resilience;

(v) evaluate relevant legal authorities and, as available and appropriate, take steps to provide, in consultation with unions and employers, opportunities for workforce training and to support the creation of high-quality and well-paying jobs, including union jobs, for people who are part of communities with environmental justice concerns;

(vi) evaluate relevant legal authorities and, where available and appropriate, consider adopting or requiring measures to avoid, minimize, or mitigate disproportionate and adverse human health and environmental effects (including risks) and hazards of Federal activities on communities with environmental justice concerns, to the maximum extent practicable, and to address any contribution of such Federal activities to adverse effects—including cumulative impacts of environmental and other burdens—already experienced by such communities;

(vii) provide opportunities for the meaningful engagement of persons and communities with environmental justice concerns who are potentially affected by Federal activities, including by:

(A) providing timely opportunities for members of the public to share information or concerns and participate in decision-making processes;

(B) fully considering public input provided as part of decision-making processes;

(C) seeking out and encouraging the involvement of persons and communities potentially affected by Federal activities by:

(1) ensuring that agencies offer or provide information on a Federal activity in a manner that provides meaningful access to individuals with limited English proficiency and is accessible to individuals with disabilities;

(2) providing notice of and engaging in outreach to communities or groups of people who are potentially affected and who are not regular participants in Federal decision-making; and

(3) addressing, to the extent practicable and appropriate, other barriers to participation that individuals may face; and

(D) providing technical assistance, tools, and resources to assist in facilitating meaningful and informed public participation, whenever practicable and appropriate;

(viii) continue to engage in consultation on Federal activities that have Tribal implications and potentially affect human health or the environment, pursuant to Executive Order 13175 of November 6, 2000 (Consultation and Coordination With Indian Tribal Governments), the Presidential Memorandum of January 26, 2021 (Tribal Consultation and Strengthening Nation-to-Nation Relationships), and the Presidential Memorandum of November 30, 2022 (Uniform Standards for Tribal Consultation), and fulfill obligations established pursuant to Executive Order 13007 of May 24, 1996 (Indian Sacred Sites);

(ix) carry out environmental reviews under the National Environmental Policy Act (NEPA), 42 U.S.C. 4321 et seq., consistent with the statute and its implementing regulations and through the exercise of the agency's expertise and technical judgment, in a manner that:

(A) analyzes direct, indirect, and cumulative effects of Federal actions on communities with environmental justice concerns;

(B) considers best available science and information on any disparate health effects (including risks) arising from exposure to pollution and other environmental hazards, such as information related to the race, national origin, socioeconomic status, age, disability, and sex of the individuals exposed; and

(C) provides opportunities for early and meaningful involvement in the environmental review process by communities with environmental justice concerns potentially affected by a proposed action, including when establishing or revising agency procedures under NEPA;

(x) in accordance with Title VI of the Civil Rights Act of 1964, 42 U.S.C. 2000d, and agency regulations, ensure that all programs or activities receiving Federal financial assistance that potentially affect human health or the environment do not directly, or through contractual or other arrangements, use criteria, policies, practices, or methods of administration that discriminate on the basis of race, color, or national origin;

(xi) ensure that the public, including members of communities with environmental justice concerns, has adequate access to information on Federal activities, including planning, regulatory actions, implementation, permitting, compliance, and enforcement related to human health or the environment, when required under the Freedom of Information Act, 5 U.S.C. 552; the Government in the Sunshine Act, 5 U.S.C. 552b; the Clean Air Act, 42 U.S.C. 7401 et seq.; the Clean Water Act, 33 U.S.C. 1251 et seq.; the Emergency Planning and Community Right-to-Know Act of 1986 (EPCRA), 42 U.S.C. 11001 et seq.; or other environmental statutes with public information provisions;

(xii) improve collaboration and communication with State, Tribal, territorial, and local governments on programs and activities to advance environmental justice;

(xiii) encourage and, to the extent permitted by law, ensure that Government-owned, contractor-operated facilities take appropriate steps to implement the directives of this order;

(xiv) consider ways to encourage and, as appropriate, ensure that recipients of Federal funds—including recipients of block grant funding—and entities subject to contractual, licensing, or other arrangements with Federal agencies advance environmental justice;

(xv) develop internal mechanisms to achieve the goals of this order, including by:

(A) creating performance metrics and other means of accountability;

(B) identifying and dedicating staff, funding, and other resources; and

(C) providing appropriate professional development and training of agency staff; and

(xvi) consistent with section 2-2 of Executive Order 12898, ensure that Federal activities do not have the effect of:

(A) excluding persons, including populations, from participation in Federal activities on the basis of their race, color, or national origin;

(B) denying persons, including populations, the benefits of Federal activities on the basis of their race, color, or national origin; or

(C) subjecting persons, including populations, to discrimination on the basis of their race, color, or national origin.

(b) The Administrator of the Environmental Protection Agency (EPA) shall:

(i) in carrying out responsibilities under section 309 of the Clean Air Act, 42 U.S.C. 7609, assess whether each agency analyzes and avoids or mitigates disproportionate human health and environmental effects on communities with environmental justice concerns; and

(ii) report annually to the Chair of the Council on Environmental Quality (CEQ) and the White House Environmental Justice Interagency Council (Interagency Council) described in section 7 of this order on EPA's Clean Air Act section 309 reviews regarding communities with environmental justice concerns and provide recommendations on legislative, regulatory, or policy options to advance environmental justice in Federal decision-making.

(c) In carrying out assigned responsibilities under Executive Order 12250 of November 2, 1980 (Leadership and Coordination of Nondiscrimination Laws), the Attorney General shall assess agency efforts to ensure compliance with civil rights laws in programs and activities receiving Federal financial assistance that potentially affect human health or the environment and shall report annually based on publicly available information to the Chair of CEQ regarding any relevant pending or closed litigation.

Sec. 4. Environmental Justice Strategic Plans. (a) No later than 18 months after the date of this order and every 4 years thereafter, each agency shall submit to the Chair of CEQ and make available to the public online an Environmental Justice Strategic Plan.

(b) Each Environmental Justice Strategic Plan shall, based on guidance provided by the Chair of CEQ under section 9 of this order, set forth the agency's vision, goals, priority actions, and metrics to address and advance environmental justice and to fulfill the directives of this order, including through the identification of new staffing, policies, regulations, or guidance documents.

(c) Each Environmental Justice Strategic Plan shall also identify and address opportunities through regulations, policies, permits, or other means to improve accountability and compliance with any statute the agency administers that affects the health and environment of communities with environmental justice concerns. Such measures may include:

(i) increasing public reporting by regulated entities;

(ii) expanding use of pollution measurement and other environmental impact or compliance assessment tools such as fenceline monitoring;

(iii) improving the effectiveness of remedies to provide relief to individuals and communities with environmental justice concerns, such as remedies that penalize and deter violations and promote future compliance, including harm mitigation and corrective action; and

(iv) considering whether to remove exemptions or waivers that may undermine the achievement of human health or environmental standards.

(d) No later than 2 years after the submission of an Environmental Justice Strategic Plan, each agency shall submit to the Chair of CEQ, and make available to the public, an Environmental Justice Assessment that evaluates, based on guidance provided by the Chair of CEQ under section 9 of this order, the effectiveness of the agency's Environmental Justice Strategic Plan. The Environmental Justice Assessment shall include an evaluation of:

(i) the agency's progress in implementing its Environmental Justice Strategic Plan;

(ii) any barriers to implementing the agency's Environmental Justice Strategic Plan; and

(iii) steps taken to address any barriers identified.

(e) An agency's completion of an Environmental Justice Strategic Plan and Environmental Justice Assessment shall satisfy the requirements of section 1-103 of Executive Order 12898.

(f) The Environmental Justice Scorecard established under section 223(d) of Executive Order 14008 shall address agency progress toward achieving the goals outlined in this order and shall include, among other items, a section on agencies' Environmental Justice Strategic Plans and Environmental Justice Assessments.

(g) The Chair of CEQ may request additional periodic reports, information, or evaluations on environmental justice issues from agencies.

(h) Independent regulatory agencies are strongly encouraged to comply with the provisions of this order and to provide a notice to the Chair of CEQ of their intention to do so. The Chair of CEQ shall make such notices publicly available and maintain a list online of such agencies.

Sec. 5. Research, Data Collection, and Analysis to Advance Environmental Justice. (a) To address the need for a coordinated Federal strategy to identify and address gaps in science, data, and research related to environmental justice, the Director of the Office of Science and Technology Policy (OSTP) shall establish an Environmental Justice Subcommittee of the National Science and Technology Council (Environmental Justice Subcommittee).

(i) The Director of OSTP, in consultation with the Chair of CEQ, shall designate at least two co-chairs of the Environmental Justice Subcommittee and may designate additional co-chairs as appropriate. The membership of the Subcommittee shall consist of representatives of agencies invited by the Director, in consultation with the Chair of CEQ.

(ii) The Environmental Justice Subcommittee and the Interagency Council described in section 7 of this order shall hold an annual summit on the connection of science, data, and research with policy and action on environmental justice.

(iii) The Environmental Justice Subcommittee shall prepare, and update biennially, an Environmental Justice Science, Data, and Research Plan (Research Plan) to:

(A) analyze any gaps and inadequacies in data collection and scientific research related to environmental justice, with a focus on gaps and inadequacies that may affect agencies' ability to advance environmental justice, including through the Environmental Justice Strategic Plans required under section 4 of this order;

(B) identify opportunities for agencies to coordinate with the research efforts of State, Tribal, territorial, and local governments; academic institutions; communities; the private sector; the non-profit sector; and other relevant actors to accelerate the development of data, research, and techniques—including consideration of Indigenous Knowledge—to address gaps and inadequacies in data collection and scientific research that may affect agencies' ability to advance environmental justice;

(C) provide recommendations to agencies on the development and use of science, data, and research to support environmental justice policy and the agency responsibilities outlined in section 3 of this order;

(D) provide recommendations to the Chair of CEQ on data sources to include in the Climate and Economic Justice Screening Tool established pursuant to section 222(a) of Executive Order 14008;

(E) provide recommendations to agencies on ethical standards, privacy protections, and other requirements for the development and use of science, data, and research addressed in the Research Plan, including recommendations with respect to engaging in consultation with and obtaining consent of Tribal Nations; and

(F) provide recommendations to agencies on:

(1) encouraging participatory science, such as research or data collection undertaken by communities or the public, and, as appropriate, integrating such science into agency decision-making processes;

(2) taking steps to ensure or encourage, as appropriate, that collections of data related to environmental justice include data from the Territories and possessions of the United States;

(3) improving the public accessibility of research and information produced or distributed by the Federal Government, including through the use of machine-readable formats, where appropriate;

(4) disaggregating environmental risk, exposure, and health data by race, national origin, income, socioeconomic status, age, sex, disability, and other readily accessible and appropriate categories;

(5) identifying and addressing data collection challenges related to patterns of historical or ongoing racial discrimination and bias;

(6) analyzing cumulative impacts (including risks) from multiple sources, pollutants or chemicals, and exposure pathways, and accounting for non-chemical stressors and current and anticipated climate change;

(7) in collaboration with Tribal Nations, as appropriate, collecting, maintaining, and analyzing information on consumption patterns of fish, wildlife, and plants related to subsistence and cultural practices of Tribal and Indigenous populations;

(8) providing opportunities for meaningful engagement for communities with environmental justice concerns on the development and design of data collection and research strategies relevant to those communities; and

(9) implementing sections 3-3 and 4-4 of Executive Order 12898 in an efficient and effective manner.

(b) Consistent with sections 3-3 and 4-4 of Executive Order 12898, each agency shall take appropriate steps, considering the recommendations of the Environmental Justice Subcommittee, to promote the development of research and data related to environmental justice, including enhancing the collection of data, supporting the creation of tools to improve the consideration of environmental justice in decision-making, providing analyses of cumulative impacts and risks, and promoting science needed to inform decisions that advance environmental justice.

(c) When conducting research and data collection in furtherance of the directives in this order and Executive Order 12898, agencies shall comply with applicable regulations and directives, including those related to standards of ethics for the protection of human subjects, such as those set forth in Executive Order 12975 of October 3, 1995 (Protection of Human Research Subjects and Creation of National Bioethics Advisory Commission), and the Presidential Memorandum of January 27, 2021 (Restoring Trust in Government Through Scientific Integrity and Evidence-Based Policymaking).

Sec. 6. Community Notification on Toxic Chemical Releases. To ensure that the public, including members of communities with environmental justice concerns, receives timely information about releases of toxic chemicals that may affect them and health and safety measures available to address such releases:

(a) Each agency shall report in accordance with sections 301 through 313 of EPCRA after considering applicable EPA guidance and without regard to the Standard Industrial Classification or North American Industry Classification System delineations.

(b) No later than 6 weeks following a release requiring notification by an agency under section 304(a) of EPCRA, the notifying agency shall hold a public meeting providing the information required under section 304(b)(2) of EPCRA, including information on the nature of the release, known or anticipated health risks, and the proper precautions to take as a result. The agency shall provide notice of a public meeting no later than 72 hours after a release.

(c) The Administrator of EPA shall evaluate available legal authorities and consider any additional steps it may require or encourage non-Federal facilities that report releases under EPCRA to undertake in connection with the report.

(d) The Administrator of EPA shall provide the Environmental Justice Subcommittee established by section 5 of this order with an annual report on trends in data in the Toxic Release Inventory established by section 313 of EPCRA to inform the development of the Research Plan required under section 5(a)(iii) of this order.

Sec. 7. White House Environmental Justice Interagency Council. (a) Section 1-102(b) of Executive Order 12898, as amended by section 220(a) of Executive Order 14008, and further amended by section 4(b) of Executive Order 14082, creating the White House Environmental Justice Interagency Council, is amended to read as follows:

“(b) Membership. The Interagency Council shall consist of the following additional members:

(i) the Secretary of State;

(ii) the Secretary of Defense;

(iii) the Attorney General;

(iv) the Secretary of the Interior;

(v) the Secretary of Agriculture;

(vi) the Secretary of Commerce;

(vii) the Secretary of Labor;

(viii) the Secretary of Health and Human Services;

(ix) the Secretary of Housing and Urban Development;

(x) the Secretary of Transportation;

(xi) the Secretary of Energy;

(xii) the Secretary of Veterans Affairs;

(xiii) the Secretary of Homeland Security;

(xiv) the Administrator of the Environmental Protection Agency;

(xv) the Director of the Office of Management and Budget;

(xvi) the Chair of the Council of Economic Advisers;

(xvii) the Administrator of General Services;

(xviii) the Executive Director of the Federal Permitting Improvement Steering Council;

(xix) the Director of the Office of Science and Technology Policy;

(xx) the Assistant to the President and National Climate Advisor;

(xxi) the Assistant to the President for Domestic Policy;

(xxii) the Assistant to the President for Economic Policy;

(xxiii) the Executive Director of the White House Gender Policy Council;

(xxiv) the Senior Advisor to the President for Clean Energy Innovation and Implementation; and

(xxv) other relevant agency heads as determined by the Chair of CEQ.”

(b) Section 1-102(d) of Executive Order 12898, as amended by section 220(a) of Executive Order 14008, is further amended by adding the following sentence at the end: “The Interagency Council shall support and facilitate interagency collaboration on programs and activities related to environmental justice, including the development of materials for environmental justice training to build the capacity of Federal employees to advance environmental justice and to increase the meaningful participation of individuals from communities with environmental justice concerns in Federal activities.”

(c) Section 1-102(g) of Executive Order 12898, as amended by section 220(a) of Executive Order 14008, is amended to read as follows: “Officers. The head of each agency on the Interagency Council shall designate an Environmental Justice Officer within the agency with the authority to represent the agency on the Interagency Council and with the responsibility for leading agency planning and implementation of the agency's Environmental Justice Strategic Plan, coordinating with CEQ and other agencies, and performing such other duties related to advancing environmental justice as the head of the agency deems appropriate.”

(d) Section 1-102 of Executive Order 12898, as amended by section 220(a) of Executive Order 14008, is further amended by adding the following at the end:

“(h) Memorandum of Understanding. The Interagency Council shall adopt a Memorandum of Understanding among its members that sets forth the objectives, structure, and planned operations of the Interagency Council.

(i) Public meetings. In coordination with the White House Environmental Justice Advisory Council, the Interagency Council shall hold at least one public meeting per year. The Interagency Council shall prepare, for public review, a summary of the comments and recommendations discussed at public meetings of the Interagency Council.

(j) Clearinghouse. The Administrator of EPA, in coordination with the Interagency Council, shall, no later than March 31, 2024, establish a public, internet-based, whole-of-government clearinghouse composed of culturally and linguistically appropriate and accessible materials related to environmental justice, including:

(i) information describing the activities of the members of the Interagency Council to address issues relating to environmental justice;

(ii) information on technical assistance, tools, and resources to assist communities with environmental justice concerns in building capacity for public participation;

(iii) copies of training materials developed by the Interagency Council or its members to help individuals and employees understand and carry out environmental justice activities; and

(iv) any other information deemed appropriate by the Administrator, in coordination with the Interagency Council.”

(e) Section 5-5(a) of Executive Order 12898 is amended to read as follows: “The public may submit recommendations to Federal agencies relating to the incorporation of environmental justice principles into Federal agency programs or policies. Each Federal agency shall convey such recommendations to the Interagency Council.”

Sec. 8. White House Office of Environmental Justice. (a) The White House Office of Environmental Justice is hereby established within CEQ.

(b) The Office shall be headed by a Federal Chief Environmental Justice Officer, who shall be appointed by the President. The Federal Chief Environmental Justice Officer shall advance environmental justice initiatives, including by coordinating the development of policies, programs, and partnerships to achieve the policies set forth in this order; identifying opportunities for collaboration and coordination with State, Tribal, territorial, and local governments; supporting the Interagency Council; and advising the Chair of CEQ and the Interagency Council on environmental justice matters.

(c) The heads of all agencies shall cooperate with the Federal Chief Environmental Justice Officer and provide such information, support, and assistance as the Federal Chief Environmental Justice Officer may request, as appropriate.

Sec. 9. Guidance. Within 6 months of the date of this order, the Chair of CEQ shall issue interim guidance, in consultation with the Interagency Council, to inform agency implementation of this order, and shall request recommendations on the guidance from the White House Environmental Justice Advisory Council established by Executive Order 14008 (Advisory Council). To reduce redundancy and streamline reporting obligations, the interim guidance shall identify ways for agencies to align other related efforts, such as obligations that agencies may have under Executive Order 13985 and Executive Order 14008. Within 18 months of the date of this order, the Chair of CEQ shall issue final guidance after considering any recommendations of the Advisory Council. The Chair of CEQ may revise any guidance, or issue additional guidance under this order, as appropriate, and shall consider any additional recommendations made by the Advisory Council in issuing or revising guidance under this section.

Sec. 10. Reports to the President. Within 1 year of the date for the submission of agency Environmental Justice Strategic Plans to the Chair of CEQ under section 4(a) of this order, the Chair shall, after consultation with the Interagency Council and after considering recommendations from the Advisory Council, submit to the President a report that describes the implementation of this order, includes each agency's Environmental Justice Strategic Plan, provides recommendations for additional steps to advance environmental justice, and, beginning with the second report, also provides any insights gathered from each agency's Environmental Justice Assessment required under section 4(d) of this order.

Sec. 11. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

April 21, 2023.

[FR Doc. 2023-08955

Filed 4-25-23; 8:45 am]

Billing code 3395-F3-P